DEPARTMENT OF EDUCATION

[CFDA Nos. 84.015A, 84.015B]

Office of Postsecondary Education, Title VI, Higher Education Act of 1965, as Amended, Part A, National Resource Centers Program and Foreign Language and Area Studies Fellowships Program; Notice Announcing Technical Assistance Workshop for Preparing Applications for New Awards for Fiscal Year (FY) 2003

Purpose of Workshop: To assist institutions of higher education in preparing their applications for the competition for new awards for FY 2003 under the National Resource Centers Program and the Foreign Language and Area Studies Fellowships Program authorized by section 602 of the Higher Education Act of 1965, as amended, 20 U.S.C. 1122. The workshop will include sessions on how to develop application narratives and budgets that effectively address the programs' selection criteria, as well as sessions on program evaluation and grant administration. This notice announces the technical assistance workshop only.

Prospective applicants are advised that in August 2002 the Secretary plans to publish a notice inviting applications for FY 2003 new awards, contingent upon Congress appropriating funds for these programs.

DATES: February 3-5, 2002. Workshop sessions will begin at 8 a.m. and end at 5 p.m. Conducting the workshop in February allows prospective applicants sufficient time to develop their applications for submission in fall 2002.

ADDRESSES: The Doubletree Hotel, 300 Army/Navy Drive, Arlington, Virginia. To make a reservation call the Doubletree Hotel, toll free, at 1-800-678-8123.

Assistance to Individuals with Disabilities at the Technical Assistance Workshop: The technical assistance workshop site is accessible to individuals with disabilities. If you will need an auxiliary aid or service to participate in the workshop (e.g., interpreting service, assistive listening device, or materials in an alternate format), notify one of the contact persons listed under FOR FURTHER INFORMATION CONTACT at least two weeks before the scheduled workshop date. Although we will attempt to meet a request we receive after this date, we may not be able to make available the requested auxiliary aid or service because of insufficient time to arrange it.

FOR FURTHER INFORMATION CONTACT: The National Resource Centers Program and Foreign Language and Area Studies Fellowships Program Team: Cheryl Gibbs, Ed McDermott, Amy Wilson, or Karla Ver Bryck Block, U.S. Department of Education, International Education and Graduate Programs Service, 1990 K Street, NW., 6th Floor, Washington, DC 20006-8521. Telephone: (202) 502-7700 or via Internet: http://www.OPE_nrc-flas@ed.gov

If you use a telecommunications device for the deaf (TDD), you may call the Federal Information Relay Service (FIRS) at 1-800-877-8339.

Individuals with disabilities may obtain this document in an alternative format (e.g., Braille, large print, audiotape, or computer diskette) on request to one of the program contact persons listed under FOR FURTHER INFORMATION CONTACT.

Electronic Access to This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 1122.

Dated: November 21, 2001.
Maureen A. McLaughlin,
Deputy Assistant Secretary for Policy, Planning and Innovation, Office of Postsecondary Education.

[FR Doc. 01-29453 Filed 11-26-01; 8:45 am]

BILLING CODE 4001-01-P